DEPARTMENT OF STATE

[Public Notice: 11068]

Notice of Public Meeting in Preparation for International Maritime Organization Sub-Committee Meeting

The Department of State will conduct an open meeting at 9:00 a.m. on Monday, April 6, 2019, at the offices of ABS Consulting, 1525 Wilson Boulevard, Suite 625, Arlington, Virginia 22209. The primary purpose of the meeting is to prepare for the forty fourth session of the International Maritime Organization's (IMO) Facilitation Committee to be held at the IMO Headquarters, United Kingdom, April 20-24, 2020.

The agenda items to be considered include:

—Decisions of other IMO bodies

—Consideration and adoption of proposed amendments to the Convention

—Review and update of the annex of the FAL Convention

—Application of single-window concept

—Review and revision of the IMO Compendium on Facilitation and Electronic Business

—Developing guidance for authentication, integrity and confidentiality of content for the purpose of exchange via a maritime single window

—Consideration of descriptions of Maritime Services in the context of e-navigation

—Development of amendments to the Recommendations on the establishment of National Facilitation Committees (FAL.5/Circ.2)

—Development of guidelines on creating a tool to measure domestic implementation of the FAL Convention

—Unsafe mixed migration by sea

—Consideration and analysis of reports and information on persons rescued at sea and stowaways

—Guidance to address maritime corruption

—Regulatory scoping exercise for the use of Maritime Autonomous Surface Ships (MASS)

—Technical cooperation activities related to facilitation of maritime traffic relations with other organizations

—Application of the Committee's procedures on organization and method of work

—Work program

—Any other business

Members of the public may attend this meeting up to the seating capacity of 30 for the room. Members of the public may also participate via teleconference, up to the capacity of the teleconference phone line, which will handle 500 participants. To access the teleconference line, participants should call (202) 475-4000 and use Participant Code: 839 604 42#. To facilitate the building security process, and to request reasonable accommodation, those who plan to attend should contact the meeting coordinator, Mr. James Bull, by email at James.T.Bull@uscg.mil, by phone at (202) 372-1144, or in writing at 2703 Martin Luther King Jr. Ave. SE, Stop 7509, Washington DC 20593-7509 not later than Monday, March 30, 2020, seven days prior to the meeting. Requests made after Monday, March 30, 2020, might not be able to be accommodated. The ABS Consulting office is accessible by taxi, public transportation, and privately owned conveyance.

Additional information regarding this and other IMO public meetings may be found at: https://www.dco.uscg.mil/IMO.

Jeremy M. Greenwood,
Coast Guard Liaison Officer, Office of Ocean and Polar Affairs, Department of State.

[FR Doc. 2020-04989 Filed 3-10-20; 8:45 am]

BILLING CODE 4710-09-P